DEPARTMENT OF EDUCATION

Office of Special Education and Rehabilitative Services; Overview Information; Technical Assistance and Dissemination To Improve Services and Results for Children With Disabilities; Notice Inviting Applications for New Awards for Fiscal Year (FY) 2008

Catalog of Federal Domestic Assistance (CFDA) Numbers: 84.326L and 84.326W.

Note: This notice invites applications for two separate competitions. For key dates, contact person information, and funding information regarding each competition, see the chart in the Award Information section of this notice.

DATES:

Applications Available: See chart.

Deadline for Transmittal of Applications: See chart.

Deadline for Intergovernmental Review: See chart.

Full Text of Announcement

I. Funding Opportunity Description

Purpose of Program: The purpose of the Technical Assistance and Dissemination to Improve Services and Results for Children with Disabilities program is to promote academic achievement and improve results for children with disabilities by supporting technical assistance, model demonstration projects, dissemination of useful information, and implementation activities that are supported by scientifically based research.

Priorities: In accordance with 34 CFR 75.105(b)(2)(iv) and (v), these priorities are from allowable activities specified in the statute, or otherwise authorized in the statute (see sections 663 and 681(d) of the Individuals with Disabilities Education Act (IDEA)). Each of the absolute priorities announced in this notice corresponds to a separate competition as follows:

Absolute priority | Competition CFDA number
Technical Assistance Center on Outcomes for Infants, Toddlers, and Preschool Children with Disabilities | 84.326L
National Dropout Center for Students with Disabilities | 84.326W

Absolute Priorities: For FY 2008 and any subsequent year in which we make awards based on the list of unfunded applicants from these competitions, these priorities are absolute priorities. Under 34 CFR 75.105(c)(3), for each competition, we consider only applications that meet the absolute priority for that competition.

The priorities are:

Absolute Priority 1—Technical Assistance Center on Outcomes for Infants, Toddlers, and Preschool Children With Disabilities (84.326L).

Background: The Department's Office of Special Education Programs (OSEP) has provided national leadership to support States in their development of early childhood outcome systems (i.e., systems to collect and use child and family outcome data for accountability and program improvement purposes) for the Part C early intervention and Part B preschool programs under IDEA. For example, OSEP funded the Early Childhood Outcomes Center (ECO Center) in 2003 to promote the development and implementation of child and family outcome measures for infants, toddlers, and preschool children with disabilities that could be used in Federal and State accountability systems. At the Federal and State levels, outcome data are needed to monitor and assess the efficacy of Part C early intervention and Part B preschool programs. (For further information on the work of the ECO Center, go to http://www.the-eco-center.org).

In the summer of 2005, after considering significant input from the ECO Center and from professionals and families in the early intervention and early childhood special education fields, OSEP announced three functional child outcomes for the Part C early intervention and the Part B preschool programs for States to report on in their State Performance Plans and Annual Performance Reports (SPPs/APRs) beginning with the SPPs/APRs due in February 2008. The child outcomes for Part C and Part B preschool are as follows: The percentages of children receiving services under Part C and Part B preschool programs who demonstrate improved (a) positive social-emotional skills (including social relationships); (b) acquisition and use of knowledge and skills (including early language/communication and, for preschool, early literacy); and (c) use of appropriate behaviors to meet their needs. These outcomes are outlined in the SPP/APR packages under indicator 3 for the Part C program and indicator 7 for the Part B program. Additionally, Part C early intervention programs must report on three family outcomes. The Part C family outcomes are as follows: The percentages of families participating in Part C programs who report that early intervention services have helped them (a) know their rights; (b) effectively communicate their children's needs; and (c) help their children develop and learn. These outcomes are outlined in the Part C SPP/APR packages under indicator 4. More information on SPPs/APRs is available at: http://www.rrfcnetwork.org/content/view/248/358/.

To date, States have made progress in developing and implementing outcome systems for their Part C early intervention and Part B preschool programs. However, States continue to need support in developing, implementing, and evaluating high quality outcome systems that produce valid, reliable, and accurate data. Additional work is needed to ensure that stakeholders, including administrators, service providers, policymakers, and families, understand the child and family outcomes and how to accurately measure these outcomes. Additionally, States continue to need support in: (a) Developing quality assurance processes to ensure that service providers are trained in collecting and reporting child outcome data and verifying the accuracy of that data; (b) analyzing and using child and family outcome data for program improvement at both the State and local levels; and (c) ensuring that the Part C early intervention and Part B preschool outcome systems are included in discussions as States plan accountability systems for other early care and education programs.

Priority: The purpose of this priority is to fund a cooperative agreement to support the establishment and operation of a Technical Assistance Center on Outcomes for Infants, Toddlers, and Preschool Children With Disabilities (Center) that will provide national leadership to assist States with the implementation of high-quality outcome systems for early intervention and preschool special education programs.

To be considered for funding under this absolute priority, applicants must meet the application requirements contained in this priority. All projects funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following Web site provides more information on logic models and lists multiple online resources: http://www.cdc.gov/eval/resources.htm

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for a summative evaluation to be conducted by an independent third party with experience in conducting evaluations;

(e) A budget for attendance at the following:

(1) A one and one half day kick-off meeting to be held in Washington, DC within four weeks after receipt of the award, and an annual planning meeting held in Washington, DC with the OSEP Project Officer during each subsequent year of the project period.

(2) A three-day Project Directors' Conference in Washington, DC during each year of the project period.

(3) A four-day Technical Assistance and Dissemination Conference in Washington, DC during each year of the project period.

(4) One two-day trip annually to attend Department briefings, Department-sponsored conferences, and other meetings, as requested by OSEP; and

(f) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities. (a) Identify and document evidence-based approaches for measuring functional child outcomes.

(b) Identify and document evidence-based approaches for measuring family outcomes.

(c) In the first three months of the project period, identify a minimum of four States to partner with to develop a high-quality outcome system framework. Each partnering State must have commitments from its Part C early intervention and Part B preschool programs to participate in the activities of the Center. Additionally, the partnering States must be diverse with regard to the assessment approaches they utilize. Factors for consideration in selecting these States could include the demographic and geographic characteristics of each State, the history of outcome data collection and analysis in each State, and the professional development activities in each State that have focused on early childhood outcomes. The Center must obtain approval from OSEP on the final selection of partnering States.

Note: To fulfill the requirements of paragraph (b) of the Application Requirements of this priority, applicants must describe the methods and criteria for recruiting and selecting States for this activity in their application.

(d) In the first two years of the project period, partner with the States identified in paragraph (c) of this section to develop, implement, and evaluate a high-quality outcome system framework for Part C early intervention and Part B preschool programs. In developing this framework, the Center must work with the partner States to describe and document the known components of high-quality State and local level outcome systems and to identify, describe, and document any additional components that make up high-quality State and local level outcome systems. The known components must include, but are not limited to, valid and reliable assessment approaches, a coordinated data system, systematic data reporting mechanisms, comprehensive data analysis (including the interpretation and use of data), ongoing professional development, and continuous evaluation of the outcome systems. Through this work, the Center must develop exemplars, tools, and guidance that States (in addition to those partnering with the Center) can use to implement the framework for high-quality State and local level outcome systems within their unique settings.

Technical Assistance and Dissemination Activities. (a) Work directly with States to increase their capacity to develop and maintain high-quality outcome systems. The Center must facilitate the development of State consortia or regional technical assistance (TA) networks to maximize the number of States the Center reaches. In the third, fourth, and fifth years of the project period, the Center must provide TA to States on implementing the high-quality outcome system framework developed in the first and second years of the project period.

(b) Develop and coordinate a national TA network comprised of a cadre of experts that the Center will use to provide TA to States to assist them in improving their capacity to collect, report, and use outcome data. The topics that this national TA network may focus on in their work with States include, but are not limited to, developing quality assurance processes, analyzing and using child and family outcome data for program improvement purposes, ensuring that the Part C early intervention and Part B preschool outcome systems are included in discussions as States plan accountability systems for other early care and education programs, and assisting States in meeting State and Federal outcome data reporting requirements.

(c) Provide a continuum of general TA and dissemination activities (e.g., managing Web sites, listservs, and communities of practice; and holding conferences and training institutes) on evidence-based practices that promote outcome measurement and data collection to State educational agencies (SEAs), local educational agencies (LEAs), State Part C lead agencies, local Part C programs, parents of young children with disabilities, educators, service providers, members of professional organizations and advocacy groups, researchers, and other appropriate stakeholders. The Center's general TA must focus on helping these stakeholders understand the child and family outcomes and how to accurately measure them.

(d) Maintain a Web site that meets a government or industry-recognized standard for accessibility and that links to the Web site operated by the Technical Assistance Coordination Center (TACC), which OSEP intends to fund in FY 2008.

(e) Prepare and disseminate reports, documents, and other materials on child and family outcomes, outcome measurement, data collection and utilization, and related topics as requested by OSEP for specific audiences including SEAs, LEAs, State Part C lead agencies, local Part C programs, parents of young children with disabilities, educators, service providers, members of professional organizations and advocacy groups, researchers, and other appropriate stakeholders.

In consultation with the OSEP Project Officer, make selected reports, documents, and other materials available for SEAs, LEAs, State lead agencies, local Part C programs, parents of young children with disabilities, educators, service providers, members of professional organizations and advocacy groups, and researchers, and others, as appropriate, in both English and Spanish.

(f) Host an annual early childhood outcomes TA meeting in Washington, DC for State-level Part C early intervention and Part B preschool staff who are responsible for collecting, reporting, and using child and family outcome data.

Leadership and Coordination Activities. (a) Develop and implement strategies for ongoing stakeholder involvement in the work of the Center, including SEAs, LEAs, State Part C lead agencies, local Part C programs, parents of young children with disabilities, educators, service providers, members of professional organizations and advocacy groups, researchers, and others as appropriate.

(b) On an annual basis, compile and share data on States' APRs and updated SPPs for IDEA Part B indicator 7 (preschool child outcomes) and Part C indicator 3 (child outcomes) and indicator 4 (family outcomes) by—

(1) Reviewing relevant sections of each State's APR and updated SPP and summarizing the data on these indicators;

(2) Developing a summary report for each indicator that includes information about States' progress in meeting targets for the indicators, as well as any revisions made to States' monitoring and data systems, measurement systems, or improvement strategies;

(3) Providing a summary report for each indicator to OSEP in a timely manner and participating in OSEP-requested teleconferences to discuss the findings of the summary reports; and

(4) Providing recommendations to OSEP on the most meaningful and useful way to aggregate and analyze the child and family outcome data at the national level.

(More information on Part B indicator 7 and Part C indicators 3 and 4 is available at: http://www.rrfcnetwork.org/content/view/409/47/)

(c) Establish and maintain an advisory committee to review the activities and outcomes of the Center and provide programmatic support and advice throughout the project period. At a minimum, the advisory committee must meet on an annual basis in Washington, DC, and include representatives from SEAs, LEAs, State Part C lead agencies, and local Part C programs; individuals with disabilities; parents of children with disabilities, including parents of young children with disabilities; educators; service providers; members of professional organizations and advocacy groups; researchers; and other appropriate stakeholders. The Center must submit the names of proposed members of the advisory committee to OSEP for approval within eight weeks after receipt of the award.

(d) Establish and maintain a technical work group (TWG) made up of experts in early childhood assessment and accountability, and family outcome assessment to ensure that the highest standards of scientific rigor are maintained in the Center's work. The Center must convene the TWG at least once a year (via teleconference, in person, video conference, or other method). The Center must submit the names of proposed TWG members to OSEP for approval within eight weeks after receipt of the award.

(e) Communicate and collaborate, on an ongoing basis, with OSEP-funded projects, including the National Early Childhood Technical Assistance Center, Regional Resource Centers, Parent Training and Information Centers, the Center for Early Literacy Learning, the Technical Assistance Center for Social Emotional Intervention, the National Early Childhood Training Enhancement Center, and the Data Accountability Center. This collaboration could include the joint development of products, the coordination of TA services, and the planning and carrying out of TA meetings and events.

(f) Collaborate and communicate with other national early childhood accountability and assessment initiatives.

(g) Participate in, organize, or facilitate, as appropriate, OSEP communities of practice (http://www.tacommunities.org/) that are aligned with the Center's objectives in order to support discussions and collaboration among key stakeholders.

(h) Prior to developing any new product, whether paper or electronic, submit to the OSEP Project Officer and, as determined in consultation with the OSEP Project Officer, the Proposed Product Advisory Board at OSEP's TACC for approval, a proposal describing the content and purpose of the product.

(i) Coordinate with the National Dissemination Center for Individuals with Disabilities, which OSEP intends to fund in FY 2008, to develop an efficient and high quality dissemination strategy that reaches broad audiences. The Center must report to the OSEP Project Officer the outcomes of these coordination efforts.

(j) Contribute, on an ongoing basis, updated information on the Center's services to OSEP's Technical Assistance and Dissemination Matrix (http://matrix.rrfcnetwork.org/), which provides current information on Department-funded TA services to a range of stakeholders.

(k) Maintain ongoing communication with the OSEP Project Officer through monthly phone conversations and e-mail communication.

Fourth and Fifth Years of the Project: In deciding whether to continue funding the Center for the fourth and fifth years, the Secretary will consider the requirements of 34 CFR 75.253(a), and in addition—

(a) The recommendations of a review team consisting of experts selected by the Secretary. This review will be conducted during a one-day intensive meeting in Washington, DC that will be held during the last half of the second year of the project period. The Center must budget for travel expenses associated with this one-day intensive review;

(b) The timeliness and effectiveness with which all requirements of the negotiated cooperative agreement have been or are being met by the Center; and

(c) The quality, relevance, and usefulness of the Center's activities and products and the degree to which the Center's activities and products have contributed to changed practice and improved outcome systems.

Absolute Priority 2—National Dropout Prevention Center for Students With Disabilities (84.326W)

Background: Completing high school is an indicator not only of individual student accomplishment but also of a student's potential future economic success. Research has shown that students who do not complete high school are more likely to experience negative outcomes, such as unemployment, underemployment, poverty, and incarceration. Nationally, individuals who drop out of high school are 72 percent more likely to be unemployed and earn 27 percent less than high school graduates (U.S. Department of Labor, 2005).

Students with disabilities are particularly at risk of dropping out of school. Studies estimate that the dropout rate among students with disabilities may be almost double that of students without disabilities (Capital Publications, 1997; U.S. Department of Education, 2007; U.S. Department of Education, 2007b). Students with disabilities who drop out of high school have poorer outcomes than their peers with disabilities who complete school. The National Longitudinal Transition Study-2 (NLTS2) reported that 4 out of 10 youth with disabilities who completed high school participated in a postsecondary program; in comparison, fewer than 1 out of 10 youth with disabilities who dropped out of high school participated in a postsecondary program (Wagner, Newman, Cameto, & Levine, 2005).

Dropout data reported by States indicate that from the 1993-1994 school year through the 2005-2006 school year the percentage of students with disabilities exiting school by dropping out decreased from 45 percent to 26 percent (U.S. Department of Education, 2007b). While the dropout rate has decreased over time, the rate for the 2005-2006 school year represents over 104,000 students with disabilities who exited school by dropping out (U.S. Department of Education, 2007b).

This priority builds on OSEP's past investments to decrease the dropout rate and increase the school completion rate for eligible students with disabilities. OSEP funded the National Dropout Prevention Center for Students with Disabilities (NDPC-SD) in 2003 to learn more about evidence-based practices in dropout prevention and to support State educational agencies (SEAs) in their efforts to assist local educational agencies (LEAs) implement these practices. The NDPC-SD worked with SEAs to address the dropout prevention, re-entry, and school completion issues. (For further information on the work of the NDPC-SD, go to http://www.ndpc-sd.org). A new center is needed to continue to address these issues, and, in addition, assist SEAs to meet State goals in their State Performance Plan (SPP) and Annual Performance Report (APR) indicators related to reducing the dropout rate and increasing school completion.

Priority: The purpose of this priority is to fund a cooperative agreement to support the establishment and operation of a National Dropout Prevention Center for Students with Disabilities (Center) that will provide States and LEAs with technical assistance (TA) on implementing and evaluating effective comprehensive dropout prevention, re-entry, and school completion models and practices for students with disabilities; developing and improving data collection systems to track students at risk of dropping out; and designing training activities for policy makers, administrators, and practitioners that will help them support efforts to improve dropout prevention, re-entry, and school completion for students with disabilities.

To be considered for funding under this absolute priority, applicants must meet the application requirements contained in this priority. The project funded under this absolute priority also must meet the programmatic and administrative requirements specified in the priority.

Application Requirements. An applicant must include in its application—

(a) A logic model that depicts, at a minimum, the goals, activities, outputs, and outcomes of the proposed project. A logic model communicates how a project will achieve its outcomes and provide a framework for both the formative and summative evaluations of the project;

Note: The following Web site provides more information on logic models and lists multiple online resources: http://www.cdc.gov/eval/resources.htm

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for attendance at the following:

(1) A one and one half day kick-off meeting to be held in Washington, DC within four weeks after receipt of the award, and a one day annual planning meeting held in Washington, DC with the OSEP Project Officer during each subsequent year of the project period.

(2) A three-day Project Directors' Conference in Washington, DC during each year of the project period.

(3) A four-day Technical Assistance and Dissemination Conference in Washington, DC during each year of the project period.

(4) Four two-day trips annually to attend Department briefings, Department-sponsored conferences, and other meetings as requested by OSEP; and

(e) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities. (a) Conduct literature reviews and build on previous literature reviews to identify the critical components of effective and promising models and practices that have been shown to improve outcomes in dropout prevention, re-entry, and school completion.

(b) Collaborate with other technical assistance providers funded by the Department and other Federal agencies to identify strategies for incorporating dropout prevention, re-entry, and school completion models and practices for students with disabilities into broader school improvement efforts. For example, the Department's National High School Center, in its technical assistance to Regional Comprehensive Centers and States, incorporates strategies related to dropout prevention, re-entry, and school completion for students with disabilities as an approach to creating and maintaining excellent high schools. For further information on the work of the High School Center, go to http://www.betterhighschools.org.

Technical Assistance and Dissemination Activities. (a) Provide TA to States and LEAs to increase their capacity to design and implement effective dropout prevention, re-entry, and school completion models and practices. The TA must be focused on helping States and LEAs implement the critical components of high quality dropout prevention, re-entry, and school completion models and practices identified through research and literature reviews.

(b) Work with States and LEAs to develop training activities for policy makers, administrators, and practitioners that will help them support effective and promising models and practices to improve dropout prevention, re-entry, and school completion for students with disabilities.

(c) Host an annual national forum in Washington, DC for researchers, policymakers, administrators, practitioners, and other appropriate stakeholders to exchange information on implementing evidence-based dropout prevention, re-entry, and school completion models and practices; establish interagency networks to support the implementation of these models and practices; and develop effective data systems that collect and use data for the purpose of identifying students with disabilities that are at risk of dropping out.

(d) Provide a continuum of general TA and dissemination activities (e.g., managing Web sites, listservs, and communities of practice; and holding conferences and training institutes) on evidence-based practices that promote effective dropout prevention, re-entry, and school completion.

(e) Maintain a Web site that meets a government or industry-recognized standard for accessibility and that links to the Web site operated by the Technical Assistance Coordination Center (TACC), which OSEP intends to fund in FY 2008.

(f) Prepare and disseminate reports, documents, and other materials on dropout prevention, re-entry, and school completion practices and programs, and related topics, as requested by OSEP, for specific audiences including families, practitioners, administrators, policymakers, and researchers. To reach the widest audience possible, dissemination strategies must involve collaboration with other TA providers, organizations, and researchers, as well as the National Dissemination Center for Individuals with Disabilities (Dissemination Center), as described in paragraph (f) in the Leadership and Coordination Activities section of this priority. In consultation with the OSEP Project Officer, make selected reports, documents, and other materials available for families, practitioners, administrators, policy makers, and researchers in both English and Spanish.

(g) Develop materials and guidance for States and provide targeted TA related to the performance and compliance indicators on their APRs and SPPs, as requested by OSEP.

Leadership and Coordination Activities. (a) Compile and share data on States' APRs and updated SPPs for IDEA Part B indicator 1 (Graduation) and indicator 2 (Dropout) by—

(1) Reviewing relevant sections of each State's APR and updated SPP and summarizing the data on these indicators;

(2) Developing a summary report for each indicator that includes information about States' progress in meeting targets for the indicators, as well as any revisions made to States' monitoring and data systems, measurement systems, or improvement strategies; and

(3) Providing a summary report for each indicator to OSEP in a timely manner and participating in OSEP-requested teleconferences to discuss the findings of the summary reports.

(More information on Part B indicator 1 and indicator 2 is available at: http://www.rrfcnetwork.org/content/view/409/47/).

(b) Establish and maintain an advisory committee to review the activities and outcomes of the Center and provide programmatic support and advice throughout the project period. At a minimum, the advisory committee must meet on an annual basis in Washington, DC, and consist of family members of children with disabilities, students, policy makers, service providers, business and industry representatives, researchers, administrators, advocates, and other appropriate stakeholders. The Center must submit the names of proposed members of the advisory committee to OSEP for approval within eight weeks after receipt of the award.

(c) Communicate and collaborate, on an ongoing basis, with OSEP-funded projects including the National Secondary Transition Technical Assistance Center, the National Postsecondary Outcomes Center, the National High School Center, the Regional Resource Centers, and the National and Regional Parent Technical Assistance Centers. This collaboration could include the joint development of products, the coordination of TA services, and the planning and carrying out of TA meetings and events.

(d) Participate in, organize, or facilitate, as appropriate, OSEP communities of practice (http://www.tacommunities.org/) that are aligned with the Center's objectives as a way to support discussions and collaboration among key stakeholders.

(e) Prior to developing any new product, whether paper or electronic, submit to the OSEP Project Officer and, as determined in consultation with the OSEP Project Officer, the Proposed Product Advisory Board at OSEP's TACC for approval, a proposal describing the content and purpose of the product.

(f) Coordinate with the Dissemination Center, which OSEP intends to fund in FY 2008, to develop an efficient and high-quality dissemination strategy that reaches broad audiences. The Center must report to the OSEP Project Officer the outcomes of these coordination efforts.

(g) Contribute, on an ongoing basis, updated information on the Center's services to OSEP's Technical Assistance and Dissemination Matrix (http://matrix.rrfcnetwork.org/), which provides current information on Department-funded TA services to a range of stakeholders.

(h) Conduct a summative evaluation of the Center in collaboration with the OSEP-funded Center to Improve Project Performance (CIPP) as described in the following paragraphs. This summative evaluation must examine the outcomes or impact of the Center's activities in order to assess the effectiveness of those activities.

Note: The major tasks of CIPP would be to guide, coordinate, and oversee the summative evaluations conducted by selected Technical Assistance, Personnel Development, Parent Training and Information Center, and Technology projects that individually receive $500,000 or more in funding from OSEP annually. The efforts of CIPP are expected to enhance individual project evaluations by providing expert and unbiased assistance in designing evaluations, conducting analyses, and interpreting data.

To fulfill the requirements of the summative evaluation to be conducted under the guidance of CIPP and with the approval of the OSEP Project Officer, the Center must—

(1) Hire or designate, with the approval of the OSEP Project Officer, a project liaison staff person with sufficient dedicated time, evaluation experience, and knowledge of the Center to work with CIPP on the following tasks: (i) Planning for the Center's summative evaluation (e.g., selecting evaluation questions, developing a timeline for the evaluation, locating sources of relevant data, and refining the logic model used for the evaluation), (ii) developing the summative evaluation design and instrumentation (e.g., determining quantitative or qualitative data collection strategies, selecting respondent samples, and pilot testing instruments), (iii) coordinating the evaluation timeline with the implementation of the Center's activities, (iv) collecting summative data, and (v) writing reports of summative evaluation findings;

(2) Cooperate with CIPP staff in order to accomplish the tasks described in paragraph (1) of this section; and

(3) Dedicate $40,000 of the annual budget request for this project to cover the costs of carrying out the tasks described in paragraphs (1) and (2) of this section, implementing the Center's formative evaluation, and traveling to Washington, DC in the second year of the project period for the Center's review for continued funding.

(i) Maintain ongoing communication with the OSEP Project Officer through monthly phone conversations and e-mail communication.

Fourth and Fifth Years of the Project: In deciding whether to continue funding the Center for the fourth and fifth years, the Secretary will consider the requirements of 34 CFR 75.253(a), and in addition—

(a) The recommendation of a review team consisting of experts selected by the Secretary. This review will be conducted during a one-day intensive meeting in Washington, DC that will be held during the last half of the second year of the project period;

(b) The timeliness and effectiveness with which all requirements of the negotiated cooperative agreement have been or are being met by the Center; and

(c) The quality, relevance, and usefulness of the Center's activities and products and the degree to which the Center's activities and products have contributed to changed practice in dropout prevention and re-entry and school completion rates.

References:

Capital Publications. (1997). Special education dropout rate remains stagnant. Special Education Law Reporter, 23(1), 1-2.

U.S. Department of Education, National Center for Educational Statistics. (2007). Percentage of high school dropouts among persons 16 through 24 years old. Digest of Education Statistics. Retrieved May 23, 2008 from http://nces.ed.gov/programs/digest/d07/tables/dt07_105.asp

U.S. Department of Education. (2007b). 27th Annual Report to Congress on the Implementation of the Individuals with Disabilities Education Act. Washington, DC: Author.

U.S. Department of Education. (2007b). Children with Disabilities Exiting Special Education, 2005-2006. Washington, DC: Author.

U.S. Department of Labor. (2005). Educational resources: So you're thinking of dropping out of school. Downloaded May 5, 2005 from http://www.dol.gov/asp/fibre/dropout.htm.

Wagner, M., Newman, L., Cameto, R., & Levine, P. (2005). Changes over time in the early postschool outcomes of youth with disabilities. A report of findings from the National Longitudinal Transition Study (NLTS) and the National Longitudinal Transition Study-2 (NLTS2).Menlo Park, CA: SRI International.

Waiver of Proposed Rulemaking: Under the Administrative Procedure Act (APA) (5 U.S.C. 553) the Department generally offers interested parties the opportunity to comment on proposed priorities and requirements. Section 681(d) of the IDEA, however, makes the public comment requirements of the APA inapplicable to the priorities in this notice.

Program Authority: 20 U.S.C. 1463 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education (IHEs) only.

II. Award Information

Type of Award: Cooperative agreements.

Estimated Available Funds: $1,500,000. Please refer to the “Estimated Available Funds” column of the chart in this section for the estimated dollar amounts for individual competitions.

Estimated Range of Awards: See chart.

Estimated Average Size of Awards: See chart.

Maximum Awards: See chart.

Estimated Number of Awards: See chart.

Project Period: See chart.

Individuals With Disabilities Education Act—Technical Assistance and Dissemination To Improve Services and Results for Children With Disabilities—Application Notice for Fiscal Year 2008
CFDA number and name | Applications available | Deadline for transmittal of applications | Deadline for intergovernmental review | Estimated available funds | Estimated average size of awards | Maximum award * (per year) | Estimated number of awards | Project period | Contact person
84.326L—Technical Assistance Center on Outcomes for Infants, Toddlers & Preschool Children with Disabilities | June 23, 2008 | July 23, 2008 | September 22, 2008 | $800,000 | $800,000 | * $800,000 | 1 | Up to 60 months | Jennifer Tschantz (202) 245-7556 Rm 4057.
84.326W—National Dropout Center for Students with Disabilities | June 23, 2008 | July 23, 2008 | September 22, 2008 | 700,000 | 700,000 | * 700,000 | 1 | Up to 60 months | Selete Avoke (202) 245-7260 Rm 4121.
* We will reject any application that proposes a budget exceeding the maximum award for a single budget period of 12 months. The Assistant Secretary for Special Education and Rehabilitative Services may change the maximum amount through a notice published in theFederal Register.
The Assistant Secretary may use the priorities in this notice for competitions in FY 2009 and later years.

Note: The Department of Education is not bound by any estimates in this notice.

III. Eligibility Information

1. Eligible Applicants: SEAs; LEAs; public charter schools that are LEAs under State law; IHEs; other public agencies; private nonprofit organizations; outlying areas; freely associated States; Indian tribes or tribal organizations; and for-profit organizations.

2. Cost Sharing or Matching: This program does not require cost sharing or matching.

3. Other: General Requirements—(a) The projects funded under this program must make positive efforts to employ and advance in employment qualified individuals with disabilities (see section 606 of IDEA).

(b) Applicants and grant recipients funded under this program must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application from ED Pubs, be sure to identify the competition to which you want to apply, as follows: CFDA Number 84.326L or 84.326W.

Individuals with disabilities can obtain a copy of the application package in an alternative format (e.g., Braille, large print, audiotape, or computer diskette) by contacting the person or team listed under Alternative Format in section VIII of this notice.

2. Content and Form of Application Submission: Requirements concerning the content of an application, together with the forms you must submit, are in the application package for each competition announced in this notice.

Page Limit: The application narrative (Part III of the application) is where you, the applicant, address the selection criteria that reviewers use to evaluate your application. You must limit Part III to the equivalent of no more than 70 pages for each absolute priority, using the following standards:

• A “page” is 8.5” x 11”, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the two-page abstract, the resumes, the bibliography, the references, or the letters of support. The page limit, however, does apply to the application narrative in Part III.

We will reject your application if you exceed the page limit; or if you use other standards and exceed the equivalent of the page limit.

3. Submission Dates and Times:

Applications Available: See chart.

Deadline for Transmittal of Applications: See chart.

Applications for grants under this program may be submitted electronically using the Grants.gov Apply site (Grants.gov), or in paper format by mail or hand delivery. For information (including dates and times) about how to submit your application electronically, or in paper format by mail or hand delivery, please refer to section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: See chart.

4. Intergovernmental Review: This program is subject to Executive Order 12372 and the regulations in 34 CFR part 79. Information about Intergovernmental Review of Federal Programs under Executive Order 12372 is in the application package for each of the competitions announced in this notice.

5. Funding Restrictions: We reference regulations outlining funding restrictions in the Applicable Regulations section in this notice.

6. Other Submission Requirements: Applications for grants under this program may be submitted electronically or in paper format by mail or hand delivery.

a. Electronic Submission of Applications.

To comply with the President's Management Agenda, we are participating as a partner in the Governmentwide Grants.gov Apply site. The Technical Assistance and Dissemination to Improve Services and Results for Children with Disabilities program, CFDA Numbers 84.326L and 84.326W, announced in this notice are included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Technical Assistance and Dissemination to Improve Services and Results for Children With Disabilities program competitions—CFDA numbers 84.326L and 84.326W at http://www.Grants.gov. You must search for the downloadable application package for this program by the CFDA number. Do not include the CFDA number's alpha suffix in your search (e.g., search for 84.326, not 84.326L). Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date.

We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for the competition to which you are applying to ensure that you submit your application in a timely manner to the Grants.gov system. You can also find the Education Submission Procedures pertaining to Grants.gov at http://eGrants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC, time, the following business day to enable you to transmit your application electronically or by hand delivery. You also may mail your application by following the mailing instructions described elsewhere in this notice.

If you submit an application after 4:30:00 p.m., Washington, DC, time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30:00 p.m., Washington, DC, time, on the application deadline date.

The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.326L or 84.326W), 400 Maryland Avenue, SW., Washington, DC 20202-4260, or

By mail through a commercial carrier: U.S. Department of Education, Application Control Center, Stop 4260, Attention: (CFDA Number 84.326L or 84.326W),7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326L or 84.326W), 550 12th Street, SW., Room 7041, Potomac Center Plaza, Washington, DC 20202-4260.

The Application Control Center accepts hand deliveries daily between 8:00 a.m. and 4:30:00 p.m., Washington, DC time, except Saturdays, Sundays and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application packages for each competition announced in this notice.

2. Peer Review: In the past, the Department has had difficulty finding peer reviewers for certain competitions, because so many individuals who are eligible to serve as peer reviewers have conflicts of interest. The Standing Panel requirements under IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. These measures focus on: The extent to which projects provide high-quality products and services, the relevance of project products and services to educational and early intervention policy and practice, and the use of products and services to improve educational and early intervention policy and practice.

The grantee will be required to provide information related to these measures in annual reports to the Department.

The grantee also will be required to report information on the project's performance in annual reports to the Department (34 CFR 75.590).

VII. Agency Contact

For Further Information Contact: See chart in the Award Information section of this notice for the individual contact person's name, room number and telephone number. You can write to the contact at the following address: U.S. Department of Education, 400 Maryland Avenue, SW., Potomac Center Plaza (PCP), Washington, DC 20202-2550. If you use a TDD, call the Federal Relay Service (FRS), toll-free, at 1-800-877-8339.

VIII. Other Information

Alternative Format: Individuals with disabilities can obtain this document and a copy of the application package in an alternative format (e.g., Braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 16, 2008.
Tracy R. Justesen,
Assistant Secretary for Special Education and Rehabilitative Services.

[FR Doc. E8-14123 Filed 6-20-08; 8:45 am]

BILLING CODE 4000-01-P